DEPARTMENT OF TRANSPORTATION

Federal Highway Administration

Environmental Impact Statement: San Joaquin and Stanislaus Counties, CA

AGENCY: Federal Highway Administration (FHWA), DOT.

ACTION: Rescind Notice of Intent to prepare an Environmental Impact Statement.

SUMMARY: The FHWA, on behalf of the California Department of Transportation (Caltrans), is issuing this notice to advise the public that the Notice of Intent (NOI) published on June 03, 2002, to prepare an Environmental Impact statement (EIS) for the proposed highway project in San Joaquin and Stanislaus counties, California, is being rescinded.

FOR FURTHER INFORMATION CONTACT: Scott Smith, Senior Environmental Planner, Central Sierra Environmental Analysis Branch, Caltrans, 855 M. Street, Suite 200, Fresno, California 93721 or call (559) 445-6172.

SUPPLEMENTARY INFORMATION: Effective July 1, 2007, the FHWA assigned, and Caltrans assumed, environmental responsibilities for this project pursuant to 23 U.S.C. 327. Caltrans, in cooperation with San Joaquin and Stanislaus counties, is rescinding the NOI to prepare an EIS for the Vernalis Expressway project along State Route 132.

The proposed project included improvements to State Route 132 from the State Route 132/33 Separation Overhead (Bridge 29-167L) in San Joaquin County to 0.16 km (0.1 mile) west of the San Joaquin Bridge (Bridge 38-45) in Stanislaus County. The project is approximately 5.63 km (3.5 miles) in length. The project was anticipated to improve traffic safety and operations by reducing congestion and accidents. Since the NOI to prepare an EIS was published in the Federal Register on June 3, 2002, Caltrans has conducted public involvement and agency coordination, developed a purpose and need for the project, and developed preliminary alternatives to be examined. Preliminary screenings identified sensitive environmental features associated with the proposed alternatives that could result in potentially significant adverse impacts. Due to the extent of analysis required on these resources and the lack of financial resources needed to complete the project, representatives from Caltrans, Stanislaus County, and San Joaquin County determined to no longer spend resources to obtain Project Acceptance & Environmental Document (PA&ED) for the project. No further Federal resources will be expended on the project; the environmental review process has been terminated. Comments and questions concerning the proposed action should be directed to Caltrans at the address provided above.

(Catalog of Federal Domestic Assistance Program Number 20.205, Highway Planning and Construction. The regulations implementing Executive Order 12372 regarding intergovernmental consultation on Federal programs and activities apply to this program.)

Issued on: September 25, 2012.
Dominic Hoang,
Transportation Engineer, Federal Highway Administration, Sacramento, California.

[FR Doc. 2012-24274 Filed 10-1-12; 8:45 am]

BILLING CODE 4910-22-P